DEPARTMENT OF AGRICULTURE

Food and Nutrition Service

7 CFR Parts 210, 215, 220, and 226

[FNS-2011-0029]

RIN 0584-AE18

Child and Adult Care Food Program: Meal Pattern Revisions Related to the Healthy, Hunger-Free Kids Act of 2010; Extension of Comment Period

AGENCY: Food and Nutrition Service, USDA.

ACTION: Proposed rule; extension of comment period.

SUMMARY: This rule proposes changes to the meal pattern requirements for the Child and Adult Care Food Program (CACFP) to better align the meal patterns with the 2010 Dietary Guidelines for Americans, as required by the Healthy, Hunger-Free Kids Act of 2010 (HHFKA). The proposed changes are based on the Dietary Guidelines for Americans, science-based recommendations made by the Institute of Medicine of the National Academies in the report Child and Adult Care Food Program: Aligning Dietary Guidance for All, and input from stakeholders, as well as cost and practical considerations for CACFP institutions and facilities. In addition, this proposal would make additional revisions to the health and wellness components of CACFP to reflect several requirements set forth in the HHFKA, including making changes to the purpose of the Program and making water available to Program participants. Several of these changes would be extended to the National School Lunch Program, School Breakfast Program, and Special Milk Program to increase consistency across all Child Nutrition Programs. Implementation of this proposed rule would serve as a step towards more nutritious meals that improve the dietary habits of participants in day care. The comment period is being extended to provide additional time for interested parties to review this propose rule, to May 27, 2015.

DATES: The comment period for the proposed rule that was published on January 15, 2015 (80 FR 2037) has been extended from April 15, 2015 to May 27, 2015. To be assured of consideration, comments must be postmarked on or before May 27, 2015.

ADDRESSES: The Food and Nutrition Service (FNS), USDA, invites interested persons to submit comments on this proposed rule. In order to ensure proper receipt, comments may be submitted through one of the following methods only:

• Preferred method: Federal eRulemaking Portal at http://www.regulations.gov. Follow the online instructions for submitting comments.

• Mail: Written comments should be addressed to Tina Namian, Branch Chief, Policy and Program Development Division, Child Nutrition Programs, Food and Nutrition Service, Department of Agriculture, Post Office Box 66874, St. Louis, Missouri 63166.

Comments sent by other methods not listed above will not be able to be accepted and subsequently not posted. Comments submitted in response to this rule will be included in the record and will be made available to the public. Please be advised that the substance of the comments and the identity of the individuals or entities submitting the comments will be subject to public disclosure. USDA will make the comments publicly available on the Internet via http://www.regulations.gov.

FOR FURTHER INFORMATION CONTACT: Tina Namian, Branch Chief, Policy and Program Development Division, Child Nutrition Programs, Food and Nutrition Service, U.S. Department of Agriculture, 3101 Park Center Drive, Room 1206, Alexandria, Virginia 22302-1594, 703-305-2590.

SUPPLEMENTARY INFORMATION:

Background

This proposed rule sets forth proposed revisions to implement amendments made to Section 17 of the Richard B. Russell National School Lunch Act (NSLA), 42 U.S.C. 1766, by section 221 of Public Law 111-296, the Healthy, Hunger-Free Kids Act of 2010 (HHFKA), for day care institutions participating in the Child and Adult Care Food Program (CACFP), schools serving infants and young children, ages four and under, who participate in the School Breakfast Program (SBP) or National School Lunch Program (NSLP), and schools and institutions serving children of all ages who participate in the Special Milk Program (SMP).

The amendments made by the HHFKA require the Department of Agriculture (USDA) through its CACFP to promote health and wellness in child care settings through guidance and technical assistance that focuses on nutrition, physical activity, and limiting electronic media use. More specifically, the amendments to the NSLA made by the HHFKA require USDA to review the CACFP meal patterns and make them consistent with (a) the most recent version of the Dietary Guidelines for Americans, (b) the most recent relevant nutrition science, and (c) appropriate authoritative scientific agency and organization recommendations. These updates should occur no less frequently than every 10 years. As the Dietary Guidelines and science evolve, USDA will continue to provide guidance, as needed, to support CACFP's nutrition and wellness goals. In formulating this proposed rule, the USDA relied primarily on recommendations included in the Dietary Guidelines for Americans, 2010, and Child and Adult Care Food Program: Aligning Dietary Guidance for All, a 2010 report prepared for USDA by the Institute of Medicine (IOM) of the National Academies, http://www.iom.edu/Reports/2010/Child-and-Adult-Care-Food-Program-Aligning-Dietary-Guidance-for-All.aspx. In reviewing the recommendations, USDA recognized that changes to the meal pattern must be sensitive to cost and practical application. With this in mind, a number of revisions to the meal pattern have been proposed, as well as optional best practices that facilities may choose to implement. The comment period is extended to provide additional time for interested parties to review and submit comments on the proposed meal pattern changes until May 27, 2015.

Dated: April 20, 2015.
Audrey Rowe,
Administrator, Food and Nutrition Service.

[FR Doc. 2015-09720 Filed 4-24-15; 8:45 am]

BILLING CODE 3410-30-P